DEPARTMENT OF TRANSPORTATION

National Highway Traffic Safety Administration

[Docket No. NHTSA-2012-0024; Notice 2]

Supreme Indiana Operations, Inc., Grant of Petition for Decision of Inconsequential Noncompliance

AGENCY: National Highway Traffic Safety Administration, DOT.

ACTION: Grant of Petition.

SUMMARY: Startrans, a division of Supreme Indiana Operations, Inc., (Startrans)¹ has determined that certain Startrans trucks, buses, and multifunction school activity buses (MFSAB) manufactured from 2006 through 2011, do not fully comply with paragraph § 5.3 of Federal Motor Vehicle Safety Standard (FMVSS) No. 120, Tire selection and rims and motor home/recreation vehicle trailer load carrying capacity information for motor vehicles with a GVWR of more than 4,536 kilograms (10,000 pounds). Startrans has filed an appropriate report pursuant to 49 CFR Part 573, Defect and Noncompliance Responsibility and Reports, dated November 16, 2011.

¹ Supreme Indiana Operations, Inc., is manufacturer of motor vehicles and is registered under the laws of the state of Delaware.

Pursuant to 49 U.S.C. 30118(d) and 30120(h) and the rule implementing those provisions at 49 CFR Part 556, Startrans has petitioned for an exemption from the notification and remedy requirements of 49 U.S.C. Chapter 301 on the basis that this noncompliance is inconsequential to motor vehicle safety.

Notice of receipt of Startran's petition was published, with a 30-day public comment period, on March 22, 2012, in the Federal Register (77 FR 16893). No comments were received. To view the petition and all supporting documents log onto the Federal Docket Management System (FDMS) Web site at: http://www.regulations.gov/. Then follow the online search instructions to locate docket number “NHTSA-2012-0024.”

Contact Information: For further information on this decision, contact Ms. Amina Fisher, Office of Vehicle Safety Compliance, the National Highway Traffic Safety Administration (NHTSA), telephone (202) 366-1018.

Vehicles Invovled: Affected are approximately 436 MFSAB (Activity School Buses) manufactured between 2007 and 2011, 9,543 School Buses manufactured between 2007 and 2011, 97,271 Truck models manufactured between 2006 and 2011, for a total of approximately 107,250 vehicles not in compliance with FMVSS No. 120.

Summary of Startrans' Analysis and Arguments: Startrans explains that the noncompliance is that the height of the lettering on the combined certification and tire information labels attached to the subject vehicles is less than that required by paragraph § 5.3 of FMVSS No. 120. The lettering on the noncompliant labels is only 2.12 millimeters (mm) in height. The height required by paragraph § 5.3 is 2.4 mm.

Startrans determined that the subject noncompliance existed after being notified by the NHTSA's Office of Vehicle Safety Compliance (OVSC) that an apparent noncompliance was identified during an OVSC FMVSS No. 120 compliance test of a model year 2010 Startrans MFSAB.

Startrans makes the argument that the subject noncompliance is not performance related and is inconsequential to vehicle safety. The font height of the text on the certification label is just 0.28 mm less than the requirement, but the label text is clear, legible and meets all the other labeling requirements.

Startrans also states that the number of vehicles that potentially require remedy is 107,250 and represents several concerns. These vehicles are already registered and currently represent no concern with licensing. To perform a remedy on this many vehicles invites the possibility of certification decals being reinstalled on the wrong vehicles.

Startrans has additionally informed NHTSA that it has corrected the noncompliance so that all future production vehicles will comply with FMVSS No. 120.

In summation, Startrans believes that the described noncompliance of its vehicles is inconsequential to motor vehicle safety, and that its petition, to exempt from providing recall notification of noncompliance as required by 49 U.S.C. 30118 and remedying the recall noncompliance as required by 49 U.S.C. 30120 should be granted.

Background Requirement: Section § 5.3 of FMVSS No. 120 specifically states:

§ 5.3 Each vehicle shall show the information specified in § 5.3.1 and § 5.3.2 and, in the case of a vehicle equipped with a non-pneumatic spare tire, the information specified in § 5.3.3, in the English language, lettered in block capitals and numerals not less than 2.4 millimeters high and in the format set forth following this paragraph. This information shall appear either—

(a) After each GAWR listed on the certification label required by § 567.4 or § 567.5 of this chapter; or at the option of the manufacturer,

(b) On the tire information label affixed to the vehicle in the manner, location, and form described in § 567.4 (b) through (f) of this chapter as appropriate of each GVWR-GAWR combination listed on the certification label.

NHTSA Decision: NHTSA has reviewed and accepts Startrans analyses that the noncompliance is inconsequential to motor vehicle safety. In addition, NHTSA has verified that the certification and tire labels do comply with all other safety performance requirements of FMVSS No. 120. NHTSA agrees that, despite the lettering size discrepancy, the labels are clear and legible.

In consideration of the foregoing, NHTSA has determined that Startrans has met its burden of persuasion that the subject FMVSS No. 120 labeling noncompliance is inconsequential to motor vehicle safety. Accordingly, Startrans' petition is hereby granted, and Startrans is exempted from the obligation of providing notification of, and remedy for, the subject noncompliance under 49 U.S.C. 3018 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to approximately 107,250 vehicles that Startrans no longer controlled at the time that it determined that a noncompliance existed in the subject vehicles. However, the granting of this petition does not relieve vehicle distributors and dealers of the prohibitions on the sale, offer for sale, or introduction or delivery for introduction into interstate commerce of the noncompliant vehicles under their control after Startrans notified them that the subject noncompliance existed.

Authority: (49 U.S.C. 30118, 30120: delegations of authority at CFR 1.95 and 501.8)

Issued On: June 5, 2013.
Claude H. Harris,
Director, Office of Vehicle Safety Compliance.

[FR Doc. 2013-13920 Filed 6-11-13; 8:45 am]

BILLING CODE 4910-59-P